DEPARTMENT OF AGRICULTURE

Food Safety and Inspection Service

[Docket No. 01-001N]

Codex Alimentarius Commission: Thirty-Third Session of the Codex Committee on Food Additives and Contaminants

AGENCY: Office of the Under Secretary for Food Safety, USDA.

ACTION: Notice of public meeting, request for comments.

SUMMARY: The Office of the Under Secretary for Food Safety, U.S. Department of Agriculture (USDA), and the Food and Drug Administration (FDA), U.S. Department of Health and Human Services (HHS), are sponsoring a public meeting on Tuesday, February 13, 2001. The purpose of the meeting is to provide information and receive public comments on agenda items that will be discussed at the Codex Committee on Food Additives and Contaminants (CCFAC), which will be held in The Hague, The Netherlands, on March 12-16, 2001. The Under Secretary and FDA recognize the importance of providing interested parties the opportunity to obtain background information on the Thirty-third Session of the CCFAC and to address items on the agenda.

DATES: The public meeting is scheduled for Tuesday, February 13, 2001, from 10 a.m. to 12 noon.

ADDRESSES: The public meeting will be held in Room 1409, Federal Office Building 8, Food and Drug Administration, 200 C Street, SW., Washington, DC 20204. Reference documents will be available for review in the FSIS Docket Room, U.S. Department of Agriculture, Food Safety and Inspection Service, Room 102 Cotton Annex, 300 12th Street, SW., Washington, DC 20250-3700. The documents will also be accessible via the world wide web at the following address: http://www.fao.org/waicent/faoinfo/ECONOMIC/esn/codex/ccfac33/fa01—01e.htm. Submit one original and two copies of written comments to the FSIS Docket Room at the address above and reference docket number 01-001N. All comments submitted in response to this notice will be available for public inspection in the FSIS Docket Room between 8:30 a.m. and 4:30 p.m., Monday through Friday.

FOR FURTHER INFORMATION CONTACT: Patrick J. Clerkin, Associate U.S. Manager for Codex, U.S. Codex Office, Food Safety and Inspection Service, Room 4861 South Agriculture Building, 1400 Independence Avenue SW., Washington, DC 20250. Telephone (202) 205-7760; Fax: (202) 720-3157. If you plan to attend the meeting, please contact Angela Evans, Office of Pre-market Approval, FDA by fax (202) 418-3131 or e-mail (angela.evans@cfsan.fda.gov). Persons requiring a sign language interpreter or other special accommodations should notify Mr. Patrick Clerkin at the above number.

SUPPLEMENTARY INFORMATION:

Background

The Codex Alimentarius Commission (Codex) was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled.

The CCFAC establishes or endorses maximum or guideline levels for individual food additives, for contaminants (including environmental contaminants) and for naturally occurring toxicants in foodstuffs and animal feeds. In addition, the Committee prepares priority lists of food additives and contaminants for toxicological evaluation by the Joint FAO/WHO Expert Committee on Food Additives (JECFA); recommends specifications of identity and purity for food additives for adoption by the Commission; considers methods of analysis for their determination in food; and considers and elaborates standards or codes for related subjects such as the labelling of food additives when sold as such, and food irradiation. The Committee is chaired by The Netherlands.

These provisional agenda items will be discussed during the public meeting:

1. Adoption of the Agenda.

2. Matters Referred from other Codex Committees.

3. Summary Reports of the 55th and 56th Meetings of the Joint FAO/WHO Expert Committee on Food Additives.

4. Action Required as a Result of Changes in ADI Status and other Toxicological Recommendations.

5. Discussion Paper on the Application of Risk Analysis Principles for Food Additives and Contaminants.

Food Additives

1. Endorsement and/or Revision of Maximum Levels for Food Additives in Codex Standards.

2. Consideration of the Codex General Standard for Food Additives (GSFA).

(a) Discussion Paper on the Relationship Between Codex Commodity Standards and the Further Development of the GSFA.

(b) Comments on the Food Category System of the GSFA.

(c) Revised Table 1, including Benzoates, of the Codex General Standard for Food Additives.

(d) Comments on the Use of Food Additives as Carriers.

3. Discussion Paper on Processing Aids.

4. (a) Proposed Draft Revision to the Codex General Standard for Irradiated Foods.

(b) Proposed Draft Revision to the Recommended International Code of Practice for the Operation of Irradiation Facilities Used for the Treatment of Foods.

5. Specifications for the Identity and Purity of Food Additives Arising from the 55th JECFA.

6. Proposed Amendments to the International Numbering System, including Technological Functions and Functional Classes/Sub-Classes.

Contaminants

1. Endorsement and/or Revision of Maximum Levels for Contaminants in Codex Standards.

2. Codex General Standard for Contaminants and Toxins in Foods (GSCT).

(a) Comments on the Agreed Position of the Codex Committee on Pesticide Residues on Setting Extraneous Maximum Residue Limits (EMRLs).

(b) Schedule 1 of the Proposed Draft Codex General Standard for Contaminants and Toxins in Foods.

(c) Comments on the Methodology and Principles for Exposure Assessment in the Codex General Standard for Contaminants and Toxins in Foods.

(d) Comments on the Technical Annex on Distribution Curves of Contaminants in Food Products.

3. Mycotoxins in Food and Feed.

(a) Comments on the Draft Maximum Level for Aflatoxin M1 in Milk.

(b) Proposed Revisions to the Sampling Plan for Aflatoxins in raw Peanuts.

(c) Comments on the Proposed Draft Maximum Level for Ochratoxin A in Cereals and Cereal Products.

(d) Proposed Draft Code of Practice for the Prevention of Patulin Contamination in Apple Juice and Apple Juice Ingredients in Other Beverages.

(e) Proposed Draft Code of Practice for the Prevention of Mycotoxin Contamination in Cereals, Including Annexes on Ochratoxin A, Zearalenone and Fumonisin.

4. Industrial and Environmental Contaminants in Foods.

(a) Comments on the Draft Code of Practice for Source Directed Measures to Reduce Contamination of Food with Chemicals.

(b) Standard Format for Codes of Practice.

(c) Comments on Draft Maximum Levels for Lead.

(d) Comments on the Draft Guideline Level and Proposed Draft Maximum Levels for Cadmium.

(e) Position Paper on Dioxins and Dioxin-Like PCBs.

(f) Proposed Draft Code of Practice for Source Directed Measures to Reduce Dioxin Contamination of Foods.

(g) Position Paper on Chloropropanols.

General Issues

1. Priority List of Food Additives, Contaminants and Naturally Occurring Toxicants Proposed for Evaluation by JECFA.

2. Other Business and Future Work.

(a) Comments on Methods of Analysis for the Determination of Food Additives and Contaminants in Foods.

(b) Comments on the Draft Revision to the Codex Standard for Food Grade Salt: Packaging, Transportation and Storage.

Each issue listed will be fully described in documents distributed, or to be distributed, by The Netherlands' Secretariat to the Meeting. Members of the public may access or request copies of these documents (see ADDRESSES).

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on: January 22, 2001.
F. Edward Scarbrough,
U.S. Manager for Codex Alimentarius.

[FR Doc. 01-2575 Filed 1-29-01; 8:45 am]

BILLING CODE 3410-DM-P